DEPARTMENT OF ENERGY

Federal Energy Regulatory Commission

[Project No. 803-068-California]

Pacific Gas and Electric Company; Notice of Scoping Meetings and Soliciting Scoping Comments

October 19, 2004.

a. Type of Filing: Notice of Intent to File a License Application and Pre-Filing Document (PAD) under the Commission's Integrated Licensing Process and Commencing Licensing Proceeding.

b. Project No.: 803-068.

c. Dated Filed: October 4, 2004.

d. Submitted By: Pacific Gas and Electric Company.

e. Name of Project: DeSabla-Centerville Hydroelectric Project.

f. Location: On the Butte Creek and West Branch Feather River, in Butte County, California. The project occupies approximately 178 acres of United States Lands, managed by Forest Service and Bureau of Land Management.

g. Filed Pursuant to: 18 CFR part 5 of the Commission's Regulations.

h. Potential Applicant Contact: Randal Livingston, Senior Director, Power Generation, Pacific Gas and Electric Company, 245 Market, Room 1103 (N11E), P.O. Box 770000, San Francisco, CA 94177; (415) 973-6950, facsimile (415) 973-5323.

i. FERC Contact: Susan O'Brien at (202) 502-8449 or e-mail at susan.obrien@ferc.gov.

j. Pacific Gas and Electric Company filed a Pre-Application Document (PAD) including a proposed process plan and schedule with the Commission, pursuant to 18 CFR 5.6 of the Commission's regulations.

k. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filing and issuances related to this or other pending projects. For assistance, contact FERC Online Support.

l. With this notice, we are soliciting comments on the Scoping Document 1 (SD1). All comments on SD1 should be sent to the address above in paragraph h. In addition, all comments on SD1, and all communications to and from Commission staff related to the merits of the potential application (original and eight copies) must be filed with the Commission at the following address: Magalie R. Salas, Secretary, Federal Energy Regulatory Commission, 888 First Street, NE., Washington, DC 20426. All filings with the Commission must include on the first page, the project name (DeSabla-Centerville Hydroelectric Project) and number (P-803-068), and bear the heading “Comments on Scoping Document 1.” Any individual or entity interested in commenting on SD1 must do so by February 1, 2005.

Comments on SD1and other permissible forms of communications with the Commission may be filed electronically via the Internet in lieu of paper. The Commission strongly encourages electronic filings.

See 18 CFR 385.2001(a)(1)(iii) and the instructions on the Commission's Web site (http://www.ferc.gov) under the “e-filing” link.

Scoping Meetings

Commission staff will hold three scoping meetings in the vicinity of the project at the times and place noted below. The agenda for each meeting is also listed below. We invite all interested individuals, organizations, and agencies to attend one or all of the meetings, and to assist staff in identifying particular study needs, as well as the scope of environmental issues to be addressed in the environmental document. We encourage all attendees to review the PAD before the meetings to facilitate effective discussion.

The times, location, and agendas of these meetings are as follows:

All meetings will be held in the same location: Masonic Family Center, 1110 West East Ave., Chico, CA 95926.

Day 1—Daytime Scoping Meeting

Date: Wednesday, November 17, 2004.

Time: 1 p.m.-4 p.m. (PST).

Agenda:

—Brief overview of the identified issues.

—Open discussion of issues, management objectives, existing information, data gaps, and information needs.

—Discussion of integrated process plan.

Day 1—Evening Scoping Meeting

Date: Wednesday, November 17, 2004.

Time: 6 p.m.-9 p.m.(PST).

Agenda:

Session 1—6-7 p.m.:

—“Open House” atmosphere.

—All interested parties bring forth issues for discussion on a one-on-one basis with FERC staff.

—All issues and comments will be summarized.

Session 2—7-9 p.m.:

—Brief overview of the identified issues.

—Summary of the daytime meeting and Open House Session.

—Open discussion of issues, management objectives, existing information, data gaps, and information needs

—Discussion of integrated process plan.

Day 2—Morning Scoping Meeting

Date: Wednesday, November 17, 2004.

Time: 9 a.m.-12 p.m. (PST).

Agenda:

—Conclusion of issue discussion.

—Finalize integrated process plan.

SD1, which outlines the subject areas to be addressed in the environmental document, will be mailed to the individuals and entities on the Commission's mailing list. Copies of SD1 will be available at the scoping meetings, or may be viewed on the Web at http://www.ferc.gov, using the “eLibrary” link. Follow the directions for accessing information in paragraph k above. Based on all oral and written comments, a Scoping Document 2 (SD2) may be issued. SD2 may include a revised process plan and schedule, as well as a revised list of issues identified through the scoping process.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting Procedures

The meetings will be recorded by a stenographer and will become part of the formal record of the Commission proceeding on the project.

Magalie R. Salas,
Secretary.

[FR Doc. E4-2828 Filed 10-22-04; 8:45 am]

BILLING CODE 6717-01-P